DEPARTMENT OF COMMERCE

International Trade Administration

[A-570-929]

Small Diameter Graphite Electrodes From the People's Republic of China: Preliminary Results of the Antidumping Duty Administrative Review and Rescission of Review, in Part; 2021-2022

AGENCY: Enforcement and Compliance, International Trade Administration, Department of Commerce.

SUMMARY: The U.S. Department of Commerce (Commerce) preliminarily determines that Fushun Jinly Petrochemical Carbon Co., Ltd. (Fushun Jinly), the sole mandatory respondent in this review and an exporter of small diameter graphite electrodes (SDGE) from the People's Republic of China (China), sold subject merchandise in the United States at prices below normal value (NV) during the period of review (POR) February 1, 2021, through January 31, 2022. Further, we are rescinding the review with respect to all other companies for which a review was initiated for this POR. Interested parties are invited to comment on these preliminary results.

DATES: Applicable March 7, 2023.

FOR FURTHER INFORMATION CONTACT: Samuel Glickstein, AD/CVD Operations, Office VIII, Enforcement and Compliance, International Trade Administration, U.S. Department of Commerce, 1401 Constitution Avenue NW, Washington, DC 20230; telephone: (202) 482-5307.

SUPPLEMENTARY INFORMATION:

Background

This administrative review is being conducted in accordance with section 751(a) of the Tariff Act of 1930, as amended (the Act). On April 12, 2022, Commerce published the notice of initiation of this administrative review.¹ The review was initiated with respect to 204 companies.² On June 2, 2022, Commerce selected Fushun Jinly as the sole mandatory respondent for this administrative review because Fushun Jinly was the only company under review that submitted a separate rate application or separate rate certification.³ On June 7, 2022, Commerce issued the antidumping duty questionnaire to Fushun Jinly.

¹ See Initiation of Antidumping and Countervailing Duty Administrative Reviews, 87 FR 21619 (April 12, 2022) (Initiation Notice).

² Id. at 21638 (“Where interested parties requested review of a company name combined with an alternative name (i.e., an a.k.a. name that is not an abbreviation) or a former company name, Commerce treated the different versions of the company name separately for review initiation purposes.”).

³ See Memorandum, “Respondent Selection,” dated June 2, 2022.

On October 5, 2022, we extended the deadline for the preliminary results of this administrative review from October 31, 2022, until February 14, 2023.⁴ On January 11, 2023, we further extended the deadline for the preliminary results of this administrative review until February 28, 2023.⁵ For a complete description of the events that followed the initiation of this administrative review, see the Preliminary Decision Memorandum.⁶

⁴ See Memorandum, “Extension of Deadline for Preliminary Results of Antidumping Duty Administrative Review,” dated October 5, 2022.

⁵ See Memorandum, “Second Extension of Deadline for Preliminary Results of Antidumping Duty Administrative Review,” dated January 11, 2023.

⁶ See Memorandum, “Decision Memorandum for the Preliminary Results of Antidumping Duty Administrative Review: Small Diameter Graphite Electrodes from the People's Republic of China; 2021-2022,” dated concurrently with, and hereby adopted by, this notice (Preliminary Decision Memorandum).

Scope of the Order ⁷

⁷ See Antidumping Duty Order: Small Diameter Graphite Electrodes from the People's Republic of China, 74 FR 8775 (February 20, 2009) (Order); and Small Diameter Graphite Electrodes from the People's Republic of China: Continuation of Antidumping Duty Order, 85 FR 19134 (April 26, 2020).

The merchandise covered by the Order is small diameter graphite electrodes, which are currently classified under the Harmonized Tariff Schedule of the United States (HTSUS) subheadings 8545.11.0010, 3801.10, and 8545.11.0020. Although the HTSUS subheading and ASTM specification are provided for convenience and for customs purposes, the written description of the subject merchandise is dispositive. For a complete description of the scope of the Order, see the Preliminary Decision Memorandum.

Methodology

Commerce is conducting this review in accordance with section 751(a)(1)(B) of the Act and 19 CFR 351.213. We calculated export prices in accordance with section 772 of the Act. Because China is a non-market economy (NME) country within the meaning of section 771(18) of the Act, NV has been calculated in accordance with section 773(c) of the Act.

For a full description of the methodology underlying our conclusions, see the Preliminary Decision Memorandum. A list of the topics included in the Preliminary Decision Memorandum is included in Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Partial Rescission of Review

Pursuant to 19 CFR 351.213(d)(1), Commerce will rescind an administrative review, in whole or in part, if a party who requested the review withdraws the request within 90 days of the date of publication of the notice of initiation of the requested review. On June 10, 2022, Tokai Carbon GE LLC and GrafTech International Ltd. (the domestic industry) withdrew its request for review of all companies included in its request, except Fushun Jinly.⁸ No other party requested a review of these 203 companies. Accordingly, Commerce is rescinding the administrative review with respect to all companies included in the Initiation Notice, except Fushun Jinly.⁹ See the Preliminary Decision Memorandum for a complete list of these companies.¹⁰

⁸ See Domestic Industry's Letter, “Partial Withdrawal of Request for 2021-2022 Antidumping Administrative Review,” dated June 10, 2022.

⁹ See 19 CFR 351.213(d)(1).

¹⁰ We note that Beijing Fangda Carbon Tech Co., Ltd., Chengdu Rongguang Carbon Co., Ltd., Fangda Carbon New Material Co., Ltd., Fushun Carbon Co., Ltd., and Hefei Carbon Co., Ltd. comprise a single entity: The Fangda Group. These five companies are listed as a single entity in the Preliminary Decision Memorandum.

Separate Rates

Commerce preliminarily finds that the information placed on the record by Fushun Jinly demonstrates that it is eligible for a separate rate. For additional information, see the Preliminary Decision Memorandum.

China-Wide Entity

Commerce's policy regarding conditional review of the China-wide entity applies to this administrative review.¹¹ Under this policy, the China-wide entity will not be under review unless a party specifically requests, or Commerce self-initiates, a review of the entity. Because no party requested a review of the China-wide entity and no review was initiated for this POR, the China-wide entity is not under review, and the China-wide entity's rate (i.e., 159.64 percent) is not subject to change.¹² For additional information, see the Preliminary Decision Memorandum.

¹¹ See Antidumping Proceedings: Announcement of Change in Department Practice for Respondent Selection in Antidumping Duty Proceedings and Conditional Review of the Nonmarket Economy Entity in NME Antidumping Duty Proceedings, 78 FR 65963 (November 4, 2013).

¹² See Small Diameter Graphite Electrodes from the People's Republic of China: Final Results of Antidumping Duty Administrative Review and Final Determination of No Shipments; 2015-2016, 82 FR 10876, 10877 (February 16, 2017).

Preliminary Results of Review

Commerce preliminarily determines that the following weighted-average dumping margin exists for the POR:

Exporter | Weighted- average dumping margin (percent)
Fushun Jinly Petrochemical Carbon Co., Ltd | 24.95

Disclosure and Public Comment

Commerce intends to disclose to interested parties the calculations performed for these preliminary results within five days of the date of publication of this notice in accordance with 19 CFR 351.224(b).

A timeline for the submission of case briefs and written comments will be provided to interested parties at a later date. Rebuttal briefs, limited to issues raised in case briefs, may be submitted no later than seven days after the deadline date for case briefs.¹³ Parties who submit a case brief or a rebuttal brief in this proceeding are encouraged to submit with each argument: (1) a statement of the issue; (2) a brief summary of the argument; and (3) a table of authorities.

¹³ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect.”)).

Pursuant to 19 CFR 351.310(c), interested parties who wish to request a hearing must submit a written request to the Assistant Secretary for Enforcement and Compliance within 30 days of the date of publication of this notice. Requests should contain: (1) the party's name, address, and telephone number; (2) the number of participants; (3) whether any participant is a foreign national; and (4) a list of issues parties intend to discuss. Issues raised in the hearing will be limited to those raised in the respective case and rebuttal briefs.¹⁴ If a request for a hearing is made, Commerce will announce the date and time of the hearing.

¹⁴ See 19 CFR 351.310(c).

All submissions to Commerce must be filed electronically using Enforcement and Compliance's electronic records system, ACCESS,¹⁵ and must also be served on interested parties.¹⁶ An electronically filed document must be received successfully in its entirety by ACCESS, by 5 p.m. Eastern Time (ET) on the date that the document is due. Note that Commerce has modified certain of its requirements for serving documents containing business proprietary information, until further notice.¹⁷

¹⁵ See 19 CFR 351.303.

¹⁶ See 19 CFR 351.303(f).

¹⁷ See Temporary Rule Modifying AD/CVD Service Requirements Due to COVID-19; Extension of Effective Period, 85 FR 41363 (July 10, 2020).

Unless otherwise extended, we intend to issue the final results of this administrative review, which will include the results of its analysis of issues raised in any briefs, within 120 days of publication of these preliminary results in the Federal Register, pursuant to section 751(a)(3)(A) of the Act.

Verification

As provided in section 782(i)(3) of the Act, Commerce intends to verify the information relied upon for its final results.

Assessment Rates

In accordance with section 751(a)(2)(C) of the Act, the final results of this review shall be the basis for the assessment of antidumping duties on entries of merchandise covered by this review. Upon issuance of the final results, Commerce will determine, and CBP shall assess, antidumping duties on all appropriate entries covered by this review.¹⁸ Commerce intends to issue assessment instructions to CBP no earlier than 35 days after the publication of the final results of this review. If a timely summons is filed at the U.S. Court of International Trade, the assessment instructions will direct CBP not to liquidate relevant entries until the time for parties to file a request for a statutory injunction has expired (i.e., within 90 days of publication).

¹⁸ See 19 CFR 351.212(b)(1).

Upon issuance of the final results, Commerce will determine, and CBP shall assess, antidumping duties on all appropriate entries covered by this review, in accordance with 19 CFR 351.212(b). If Fushun Jinly's ad valorem weighted-average dumping margin is not zero or de minimis (i.e., less than 0.50 percent) in the final results of this review, Commerce will calculate importer-specific assessment rates for that respondent, in accordance with 19 CFR 351.212(b)(1).¹⁹ Because Fushun Jinly did not report entered value, we will calculate importer-specific per-unit duty assessment rates based on the ratio of the total amount of antidumping duties calculated for the examined sales to the total quantity of those sales. To determine whether an importer-specific, per-unit assessment rate is de minimis, in accordance with 19 CFR 351.106(c)(2), we also will calculate an importer-specific ad valorem ratio based on estimated entered values.

¹⁹ In these preliminary results, Commerce applied the assessment rate calculation method adopted in Antidumping Proceedings: Calculation of the Weighted-Average Dumping Margin and Assessment Rate in Certain Antidumping Proceedings: Final Modification, 77 FR 8101 (February 14, 2012).

If, in the final results, Fushun Jinly's weighted-average dumping margin is zero or de minimis (i.e., less than 0.5 percent), Commerce will instruct CBP to liquidate the appropriate entries for that respondent without regard to antidumping duties.²⁰ For entries that were not reported in the U.S. sales database submitted by Fushun Jinly during this review, Commerce will instruct CBP to liquidate such entries at the antidumping duty assessment rate for the China-wide entity (i.e., 159.64 percent).²¹

²⁰ See 19 CFR 351.106(c)(2).

²¹ See Non-Market Economy Antidumping Proceedings: Assessment of Antidumping Duties, 76 FR 65694 at 65694-65695, for a full discussion of this practice.

For the companies for which we have rescinded this review, Commerce intends to instruct CBP to assess antidumping duties on all appropriate entries at a rate equal to the cash deposit rate of estimated antidumping duties required at the time of entry, or withdrawal from warehouse, for consumption, during February 1, 2021, through January 31, 2022, in accordance with 19 CFR 351.212(c)(1)(i). Commerce intends to issue appropriate assessment instructions to CBP for the rescinded companies no earlier than 35 days after the date of publication of the preliminary results of this administrative review in the Federal Register.

Cash Deposit Requirements

The following cash deposit requirements will be effective upon publication of the final results of this administrative review for shipments of the subject merchandise from China entered, or withdrawn from warehouse, for consumption on or after the publication date, as provided for by section 751(a)(2)(C) of the Act: (1) for Fushun Jinly, the cash deposit rate will be equal to the weighted-average dumping margin established in the final results of this review (except, if the rate is de minimis, then the cash deposit rate will be zero); (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 159.64 percent); and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

This administrative review and notice are issued and published in accordance with sections 751(a)(l) and 777(i)(l) of the Act, 19 CFR 351.213, and 19 CFR 351.221(b)(4).

Dated: February 28, 2023.
Abdelali Elouaradia,
Deputy Assistant Secretary for Enforcement and Compliance.

Appendix I

List of Topics Discussed in the Preliminary Decision Memorandum

I. Summary

II. Background

III. Period of Review

IV. Scope of the Order

V. Selection of Respondent

VI. Partial Rescission of Review

VII. Discussion of the Methodology

VIII. Recommendation

[FR Doc. 2023-04570 Filed 3-6-23; 8:45 am]

BILLING CODE 3510-DS-P